DEPARTMENT OF JUSTICE

Office of Community Oriented Policing Services; Agency Information Collection Activities: Proposed Collection; Comment Request

ACTION: Notice of Information Collection For Review; New Collection Grants Management System Online Application.

The Department of Justice, Office of Justice Programs, has submitted the following information collection request to the Office of Management and Budget (OMB) for review and clearance in accordance with emergency review procedures of the Paperwork Reduction Act of 1995. OMB approval has been requested by May 5, 2000. The proposed information collection is published to obtain comments from the public and affected agencies. If granted, the emergency approval is only valid for 180 days. Comments should be directed to OMB, Office of Information Regulation Affairs, (202) 395-7860, Department of Justice Desk Officer, Washington, DC 20530.

During the first 60 days of this same review period, a regular review of this information collection is also being undertaken. All comments and suggestions, or questions regarding additional information, to include obtaining a copy of the proposed information collection instrument with instructions, should be directed to H. Lionel Cares Jr., Information Resources Management Division, Office of Justice Programs, 810 7th Street NW, RM #B112, Washington DC 20531, or facsimile at (202) 354-4146.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of Information Collection: New Collection.

(2) Title of the Form/Collection: Grants Management System Online Application.

(3) Agency form number, if any, and the applicable component of the Department sponsoring the collection: None. Office of Justice Programs, United States Department of Justice.

(4) Affected public who will be as or required to respond, as well as a brief abstract: Primary: State Government. Other: None. The Grants Management System Online Application will be used by respondents from State and Local Government offices to request grants from Offices and Bureaus within the Office of Justice Programs. This information, once collected from grantees, will be used to approve applications for funding, that grantees have requested, for grantee use within State and Local Government offices.

(5) An estimate of the total number of respondents and the amount of time estimated for an average respondent to respond/reply: The time burden of the 3,000 respondents to complete the surveys is 4 hours per application.

(6) An estimate of the total public burden (in hours) associated with the collection: The total annual hour burden to complete applications for the Grants Management System Online Application is 12,000 annual burden hours.

If additional information is required contact: Ms. Brenda E. Dyer, Deputy, Clearance Office, United States Department of Justice, Information Management and Security Staff Justice Management Division, Suite 1220, National Place Building, 1331 Pennsylvania Avenue, NW, Washington, DC 20530.

Dated: April 20, 2000.
Brenda E. Dyer,
Department Deputy Clearance Officer, United States Department of Justice.

[FR Doc. 00-10305 Filed 4-24-00; 8:45 am]

BILLING CODE 4410-18-M